DEPARTMENT OF HEALTH AND HUMAN SERVICES

Centers for Disease Control and Prevention

Board of Scientific Counselors, Deputy Director for Infectious Diseases

AGENCY: Centers for Disease Control and Prevention (CDC), Department of Health and Human Services (HHS).

ACTION: Notice of meeting.

SUMMARY: In accordance with regulatory provisions, the Centers for Disease Control and Prevention (CDC) announces the following meeting of the Board of Scientific Counselors, Deputy Director for Infectious Diseases (BSC, DDID). This virtual meeting is open to the public via Zoom, limited only by the number of web conference lines available (500 lines). Registration in advance is required by accessing the link below in the addresses section. Time will be available for public comment.

DATES: The meeting will be held on November 30, 2023, from 1:30 p.m. to 3 p.m., EST.

ADDRESSES: Zoom virtual meeting. Registration in advance is required by accessing the link at https://cdc.zoomgov.com/webinar/register/WN__r2EU3xBTB6MBiQq_HdqNQ. Instructions to access the meeting will be provided following registration.

FOR FURTHER INFORMATION CONTACT: Sarah Wiley, MPH, Senior Advisor, National Center for Emerging and Zoonotic Infectious Diseases, Centers for Disease Control and Prevention, 1600 Clifton Road NE, Mailstop H16-5, Atlanta, Georgia 30329-4037. Telephone: (404) 639-4840; Email: SWiley@cdc.gov.

SUPPLEMENTARY INFORMATION: Purpose: The Board of Scientific Counselors, Deputy Director for Infectious Diseases (BSC, DDID) provides advice and guidance to the Secretary, Department of Health and Human Services; the Director, Centers for Disease Control and Prevention (CDC); and the Directors of the National Center for Emerging and Zoonotic Infectious Diseases, the National Center for HIV, Viral Hepatitis, STD, and TB Prevention, the National Center for Immunization and Respiratory Diseases, concerning strategies, goals, and priorities for the programs and research within the national centers and monitors the overall strategic direction and focus of CDC's infectious disease programs and centers.

Matters To Be Considered: The agenda will include updates and discussions on recent outbreaks and disease surveillance strategies, as well as a brief report from one of the Board's workgroups: the Food Safety Modernization Act Surveillance Working Group. Agenda items are subject to change as priorities dictate.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2023-23460 Filed 10-23-23; 8:45 am]

BILLING CODE 4163-18-P